NATIONAL SCIENCE FOUNDATION

Proposal Review Panel for Ocean Sciences; Notice of Meeting

In accordance with the Federal Advisory Committee Act (Pub. L. 92-463, as amended), the National Science Foundation announces the following meeting.

Name: Moorea Coral Reef Ecosystems LTER Site Review (#10752).

Date & Time: July 8, 2007: 8 a.m.-12 p.m. July 9, 2007: 8:30 a.m.-7 p.m. July 10, 2007: 8 a.m.-6 p.m.

Place: The University of California's Gump Laboratory, Moorea, French Polynesia.

Type of Meeting: Partially closed.

For Further Information Contact: Dr. Henry Gholz, Division of Environmental Biology, National Science Foundation, 4201 Wilson Blvd., Arlington, VA 22230. Telephone (703) 292-8481.

Purpose of Meeting: Formal third-year review of the Moorea Coral Reef Ecosystems Long-Term Ecological Research project.

Agenda

Sunday 8 July 2007

8-12 NSF Briefing of the Review Team at Hotel (closed).

Monday 9 July 2007 (at Gump Research Station)

Project Introduction (open)

8:30-9 MCR Overview and Evolution/Partnerships

Research Presentations (talks 15 min + questions 5 min) (open)

9:15-11:50 Overview

12:10-12:50 Lunch at Station

Field Trip 1-4:45 (closed)

Reception and Student Posters 5-6:45 (open)

Dinner locally 7:00 (open)

Review team separate working dinner (closed)

Tuesday 10 July 2007

8:00-8:30 Review Team assemble at Gump Lab

8:30-9:10 Research and other presentations (open)

Education and Outreach (15 + 5) (open)

9:30-10:10 Discussion (open)

10:30 Break

Information Management (15+ 5) (open)

10:45-11:30 Discussion (open)

12:00-12:50 Lunch at Station: Meet with Graduate Students (open)

1-4:15 Review Team Report Work Session (closed)

4:30-5:55 Report-out by Review Team (closed)

6:00 Adjourn

Reason for Closing: During closed sessions the review will include information of a confidential nature, including technical and financial information. These matters are exempt under 5 U.S.C. 552b(c), (4) and (6) of the Government in The Sunshine Act.

Dated: June 12, 2007.
Susanne Bolton,
Committee Management Officer.

[FR Doc. E7-11556 Filed 6-14-07; 8:45 am]

BILLING CODE 7555-01-P